DEPARTMENT OF ENERGY

Federal Energy Regulatory Commission

Combined Notice of Filings

Take notice that the Commission has received the following Natural Gas and Oil Pipeline Rate and Refund Report filings:

Filings Instituting Proceedings

Docket Numbers: PR23-68-000.

Applicants: National Fuel Gas Distribution Corporation.

Description: § 284.123 Rate Filing: Amendment of Rates Under an Order No. 63 Blanket Certificate to be effective 8/31/2023.

Filed Date: 8/31/23.

Accession Number: 20230831-5173.

Comment Date: 5 p.m. ET 9/21/23.

Docket Numbers: RP23-1010-000.

Applicants: MarkWest Pioneer, L.L.C.

Description: § 4(d) Rate Filing: Quarterly Fuel Adjustment Filing to be effective 10/1/2023.

Filed Date: 8/31/23.

Accession Number: 20230831-5150.

Comment Date: 5 p.m. ET 9/12/23.

Docket Numbers: RP23-1011-000.

Applicants: Ruby Pipeline, L.L.C.

Description: § 4(d) Rate Filing: RP 2023-08-31 Negotiated Rate Agreements to be effective 10/1/2023.

Filed Date: 8/31/23.

Accession Number: 20230831-5169.

Comment Date: 5 p.m. ET 9/12/23.

Docket Numbers: RP23-1012-000.

Applicants: Equitrans, L.P.

Description: § 4(d) Rate Filing: Negotiated Rate Agreements—9/1/2023 to be effective 9/1/2023.

Filed Date: 8/31/23.

Accession Number: 20230831-5179.

Comment Date: 5 p.m. ET 9/12/23.

Docket Numbers: RP23-1013-000.

Applicants: Southern Star Central Gas Pipeline, Inc.

Description: § 4(d) Rate Filing: Removal of SFT Rate Schedule to be effective 10/1/2023.

Filed Date: 8/31/23.

Accession Number: 20230831-5189.

Comment Date: 5 p.m. ET 9/12/23.

Docket Numbers: RP23-1014-000.

Applicants: Rockies Express Pipeline LLC.

Description: § 4(d) Rate Filing: REX 2023-08-31 Negotiated Rate Agreement to be effective 9/1/2023.

Filed Date: 8/31/23.

Accession Number: 20230831-5192.

Comment Date: 5 p.m. ET 9/12/23.

Docket Numbers: RP23-1015-000.

Applicants: NEXUS Gas Transmission, LLC.

Description: § 4(d) Rate Filing: Negotiated Rates—Various Releases eff 9-1-2023 to be effective 9/1/2023.

Filed Date: 8/31/23.

Accession Number: 20230831-5197.

Comment Date: 5 p.m. ET 9/12/23.

Docket Numbers: RP23-1016-000.

Applicants: LA Storage, LLC.

Description: § 4(d) Rate Filing: Filing of Negotiated Rate, Conforming IW Agreement 8.31.2023 to be effective 9/1/2023.

Filed Date: 8/31/23.

Accession Number: 20230831-5215.

Comment Date: 5 p.m. ET 9/12/23.

Docket Numbers: RP23-1017-000.

Applicants: Maritimes & Northeast Pipeline, L.L.C.

Description: § 4(d) Rate Filing: Negotiated Rates—Northern to NRG Business 2956 eff 9-1-2023 to be effective 9/1/2023.

Filed Date: 8/31/23.

Accession Number: 20230831-5245.

Comment Date: 5 p.m. ET 9/12/23.

Docket Numbers: RP23-1018-000.

Applicants: Tres Palacios Gas Storage LLC.

Description: § 4(d) Rate Filing: Tres Palacios Tariff Modifications to be effective 10/1/2023.

Filed Date: 8/31/23.

Accession Number: 20230831-5252.

Comment Date: 5 p.m. ET 9/12/23.

Docket Numbers: RP23-1019-000.

Applicants: Equitrans, L.P.

Description: § 4(d) Rate Filing: Payment Method Update to be effective 10/1/2023.

Filed Date: 9/1/23.

Accession Number: 20230901-5006.

Comment Date: 5 p.m. ET 9/13/23.

Docket Numbers: RP23-1020-000.

Applicants: Gulf South Pipeline Company, LLC.

Description: § 4(d) Rate Filing: Amendment to Neg Rate Agmt (Chevron 41610) eff 9-1-2023 to be effective 9/1/2023.

Filed Date: 9/1/23.

Accession Number: 20230901-5015.

Comment Date: 5 p.m. ET 9/13/23.

Docket Numbers: RP23-1021-000.

Applicants: Gulf South Pipeline Company, LLC.

Description: § 4(d) Rate Filing: Cap Rel Neg Rate Agmt (Osaka 46429 to Texla 56463) to be effective 9/1/2023.

Filed Date: 9/1/23.

Accession Number: 20230901-5016.

Comment Date: 5 p.m. ET 9/13/23.

Docket Numbers: RP23-1022-000.

Applicants: Equitrans, L.P.

Description: § 4(d) Rate Filing: Negotiated Rate Capacity Release Agreements—9/1/2023 to be effective9/1/2023.

Filed Date: 9/1/23.

Accession Number: 20230901-5030.

Comment Date: 5 p.m. ET 9/13/23.

Docket Numbers: RP23-1023-000.

Applicants: MoGas Pipeline LLC.

Description: § 4(d) Rate Filing: MoGas Negotiated Rate Agreement Filing to be effective 11/1/2023.

Filed Date: 9/1/23.

Accession Number: 20230901-5045.

Comment Date: 5 p.m. ET 9/13/23.

Docket Numbers: RP23-1024-000.

Applicants: Transwestern Pipeline Company, LLC.

Description: § 4(d) Rate Filing: Non-Conforming Agreements—Related to 2023 Settlement to be effective 9/1/2023.

Filed Date: 9/1/23.

Accession Number: 20230901-5052.

Comment Date: 5 p.m. ET 9/13/23.

Docket Numbers: RP23-1025-000.

Applicants: Transwestern Pipeline Company, LLC.

Description: § 4(d) Rate Filing: Update Non-Conforming Agreements List on 09-01-23 to be effective 9/1/2023.

Filed Date: 9/1/23.

Accession Number: 20230901-5053.

Comment Date: 5 p.m. ET 9/13/23.

Docket Numbers: RP23-1026-000.

Applicants: Gulf South Pipeline Company, LLC.

Description: § 4(d) Rate Filing: Cap Rel Neg Rate Agmt (Osaka 46429 to ConocoPhillips 56465) to be effective9/1/2023.

Filed Date: 9/1/23.

Accession Number: 20230901-5062.

Comment Date: 5 p.m. ET 9/13/23.

Docket Numbers: RP23-1027-000.

Applicants: Rover Pipeline LLC.

Description: § 4(d) Rate Filing: Summary of Negotiated Rate Capacity Release Agreements 9-1-23 to be effective 9/1/2023.

Filed Date: 9/1/23.

Accession Number: 20230901-5065.

Comment Date: 5 p.m. ET 9/13/23.

Docket Numbers: RP23-1028-000.

Applicants: El Paso Natural Gas Company, L.L.C.

Description: § 4(d) Rate Filing: Negotiated Rate Agreement Update (Hartree Sep 5 2023) to be effective9/5/2023.

Filed Date: 9/1/23.

Accession Number: 20230901-5068.

Comment Date: 5 p.m. ET 9/13/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP11-2473-000.

Applicants: Gulf South Pipeline Company, LP.

Description: Refund Report: Gulf South Pipeline Company, LLC submits tariff filing per 154.501: 2023 CICO Filing to be effective N/A.

Filed Date: 9/1/23.

Accession Number: 20230901-5012.

Comment Date: 5 p.m. ET 9/13/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov

Dated: September 1, 2023.
Debbie-Anne A. Reese,
Deputy Secretary.

[FR Doc. 2023-19416 Filed 9-7-23; 8:45 am]

BILLING CODE 6717-01-P